DEPARTMENT OF THE TREASURY

Fiscal Service

31 CFR Part 270

Availability of Records

AGENCY: Bureau of the Fiscal Service, Fiscal Service, Treasury.

ACTION: Final rule.

SUMMARY: The United States Department of the Treasury (Treasury), Bureau of the Fiscal Service, is streamlining its regulations by removing regulations that are no longer necessary because they are duplicative of other existing regulations, and do not add any substantive requirements, limitations, or instructions to Treasury's regulations.

DATES: Effective December 20, 2018.

ADDRESSES: You can download this final rule at the following internet addresses: http://www.regulations.gov, http://www.gpo.gov, or http://www.fiscal.treasury.gov.

FOR FURTHER INFORMATION CONTACT: Thomas Kearns, Attorney-Advisor, Office of the Chief Counsel, (202) 874-7036.

SUPPLEMENTARY INFORMATION:

I. Background

On February 24, 2017, the President issued Executive Order 13777, Enforcing the Regulatory Reform Agenda (82 FR 12285). E.O. 13777 directed each agency to establish a Regulatory Reform Task Force. Each Regulatory Reform Task Force was directed to review existing regulations that: (i) Eliminate jobs, or inhibit job creation; (ii) are outdated, unnecessary, or ineffective; (iii) impose costs that exceed benefits; (iv) create a serious inconsistency or otherwise interfere with regulatory reform initiatives and policies; (v) are inconsistent with the requirements of the Information Quality Act (section 515 of the Treasury and General Government Appropriations Act of 2001) or OMB Information Quality Guidance issued pursuant to that provision; or (vi) derive from or implement Executive Orders or other Presidential directives that have been subsequently rescinded or substantially modified.

II. Explanation of Provisions

Treasury is eliminating Bureau of the Fiscal Service regulations that it has determined are duplicative and unnecessary. These regulations, published at 31 CFR part 270, govern the availability of records, materials and information to be made available to the public, in accordance with the Freedom of Information Act, 5 U.S.C. 552. These regulations operate in accordance with the definitions, procedures, and other provisions of the regulations regarding the Disclosure of Records of the Office of the Secretary and of other bureaus and offices of the Treasury Department, published as part 1 of title 31 of the Code of Federal Regulations. The rule found at 31 CFR part 270 is unnecessary because it does not add any substantive requirements, limitations, or instructions to the Treasury Department regulations and the appendices thereto. Accordingly, the regulations in 31 CFR part 270 are being removed.

III. Procedural Requirements

A. Administrative Procedure Act

The Administrative Procedure Act (APA) generally requires agencies to publish a notice of proposed rulemaking in the Federal Register and provide interested persons the opportunity to submit comments. 5 U.S.C. 553(b) and (c). The APA provides an exception to this prior notice and comment requirement for “rules of agency organization, procedure, or practice.” 5 U.S.C. 553(b)(A). This final rule is a procedural rule promulgated for agency efficiency purposes. Treasury is removing duplicative and unnecessary regulations, the removal of which will not affect the substantive rights or interests of the public.

The APA also provides an exception from notice and comment procedures when an agency finds for good cause that those procedures are “impracticable, unnecessary, or contrary to the public interest.” 5 U.S.C. 553(b)(B). Treasury finds good cause to issue this rule without prior notice or comment, because such procedures are unnecessary. The removal of these regulations will have no substantive effect on the public because the regulations are duplicative of other existing regulations, and their removal will not affect the substantive rights or interests of the public.

Further, the APA generally requires that substantive rules incorporate a 30-day delayed effective date. 5 U.S.C. 553(d). This final rule, however, is merely procedural and promulgated for agency efficiency purposes, and does not impose substantive requirements on, nor affect the interests of, the public. Therefore, pursuant to 5 U.S.C. 553(d)(3), Treasury finds for good cause that a delayed effective date is unnecessary.

B. Congressional Review Act (CRA)

This rule is not a major rule pursuant to the CRA, 5 U.S.C. 801 et seq. It is not expected to lead to any of the results listed in 5 U.S.C. 804(2). This rule may take immediate effect after we submit a copy of it to Congress and the Comptroller General.

C. Paperwork Reduction Act (PRA)

There is no new collection of information contained in this final rule that would be subject to the PRA, 44 U.S.C. 3501 et seq. Under the PRA, an agency may not conduct or sponsor, and a person is not required to respond to, a collection of information unless it displays a valid OMB control number.

D. Regulatory Flexibility Act

The Regulatory Flexibility Act, 5 U.S.C. 601 et seq., does not apply to this rule because, pursuant to 5 U.S.C. 553(a)(2), issuance does not require notice and opportunity for public comment. Nonetheless, this rule will not have a significant economic impact on a substantial number of small entities.

E. Executive Order 12866

This rule is not a significant regulatory action pursuant to Executive Order 12866.

List of Subjects in 31 CFR Part 270

Records, availability of records and information, requests for records, Freedom of Information Act.

Amendments to the Regulations

PART 270—[REMOVED AND RESERVED]

Accordingly, under the authority of 5 U.S.C. 552, 31 CFR part 270 is removed and reserved.

David A. Lebryk,
Fiscal Assistant Secretary.

[FR Doc. 2018-27546 Filed 12-19-18; 8:45 am]

BILLING CODE 4810-AS-P